DEPARTMENT OF TRANSPORTATION

Office of the Secretary

14 CFR Part 399

[Docket No. DOT-OST-2017-0007]

RIN 2105-AE56

Transparency of Airline Ancillary Service Fees

AGENCY: Office of the Secretary (OST), U.S. Department of Transportation (DOT).

ACTION: Notice of withdrawal of proposed rulemaking.

SUMMARY: The Department is withdrawing the supplemental notice of proposed rulemaking (SNPRM) on Transparency of Airline Ancillary Service Fees issued on January 9, 2017. The SNPRM proposed to require air carriers, foreign air carriers, and ticket agents to clearly disclose to consumers at all points of sale customer-specific fee information, or itinerary-specific information if a customer elects not to provide customer-specific information, for a first checked bag, a second checked bag, and one carry-on bag wherever fare and schedule information is provided to consumers. The withdrawal of this rulemaking corresponds with the Department's and Administration's priorities and is consistent with Executive Order 13771, Reducing Regulation and Controlling Regulatory Costs, January 30, 2017.

DATES: December 14, 2017.

ADDRESSES: You may send comments by sending an email to Kimberly Graber (kimberly.graber@dot.gov) or Blane A. Workie (blane.workie@dot.gov). Please include RIN 2105-AE56 in the subject line of the message.

FOR FURTHER INFORMATION CONTACT: Kimberly Graber or Blane A. Workie, Office of the Assistant General Counsel for Aviation Enforcement and Proceedings, U.S. Department of Transportation, 1200 New Jersey Ave. SE, Washington, DC 20590, 202-366-9342 (phone), kimberly.graber@dot.gov or blane.workie@dot.gov (email).

Electronic Access: Docket: For access to the docket to read background documents and comments received, go to the street address listed above or visit http://www.regulations.gov. Enter the docket number DOT-OST-2017-0007 in the search field.

SUPPLEMENTARY INFORMATION: On January 9, 2017, the Department issued an SNPRM that proposed to require air carriers, foreign air carriers, and ticket agents to clearly disclose to consumers at all points of sale customer-specific fee information, or itinerary-specific information if a customer elects not to provide customer-specific information, for a first checked bag, a second checked bag, and one carry-on bag wherever fare and schedule information is provided to consumers (see 82 FR 7536, Jan. 19, 2017). The SNPRM further proposed to require airlines to provide useable, current, and accurate (but not transactable) baggage fee information to all ticket agents that receive and distribute the airline's fare and schedule information, including Global Distribution Systems and metasearch entities. If an airline or ticket agent has a website that markets to U.S. consumers, the SNPRM proposed to require the baggage fee information to be disclosed at the first point in a search process where a fare is listed in connection with a specific flight itinerary, adjacent to the fare. The SNPRM also proposed to permit airlines and ticket agents to allow customers to opt-out of receiving the baggage fee information when using their websites.

On March 2, 2017, the Department suspended the comment period, which had been scheduled to close on March 20, 2017. The suspension of the comment period was to allow the President's appointees the opportunity to review and consider this action. After a careful review, the Department has determined to withdraw the SNPRM. The Department is committed to protecting consumers from hidden fees and to ensuring transparency. However, we do not believe that Departmental action is necessary to meet this objective at this time. The Department's existing regulations already provide consumers some information regarding fees for ancillary services. The withdrawal corresponds with the Department's and Administration's priorities and is consistent with the Executive Order 13771, Reducing Regulation and Controlling Regulatory Costs, January 30, 2017.

Issued on 5th day of December 2017 in Washington, DC.
Elaine L. Chao,
Secretary of Transportation.

[FR Doc. 2017-26707 Filed 12-13-17; 8:45 am]

BILLING CODE 4910-9X-P